FEDERAL RETIREMENT THRIFT INVESTMENT BOARD

Notice of Board Meeting

DATES: September 28, 2021 at 10:00 a.m.

ADDRESSES: Telephonic. Dial-in (listen only) information: Number: 1-415-527-5035, Code: 2764 292 5887; or via web: https://tspmeet.webex.com/tspmeet/onstage/g.php?MTID=ebf17d11e1e07757af9c76225c94afcef.

FOR FURTHER INFORMATION CONTACT: Kimberly Weaver, Director, Office of External Affairs, (202) 942-1640.

SUPPLEMENTARY INFORMATION:

Board Meeting Agenda

Open Session

1. Approval of the August 24, 2021 Board Meeting Minutes

2. Monthly Reports

(a) Participant Activity Report

(b) Investment Report

(c) Legislative Report

3. Quarterly Reports

(d) Vendor Risk Management

Authority: 5 U.S.C. 552b (e)(1).

Dated: September 15, 2021.
Dharmesh Vashee,
General Counsel, Federal Retirement Thrift Investment Board.

[FR Doc. 2021-20347 Filed 9-20-21; 8:45 am]

BILLING CODE P